DEPARTMENT OF THE TREASURY

Submission for OMB Review; Comment Request

June 23, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 31, 2006 to be assured of consideration.

Financial Crimes Enforcement Network (FinCEN)

OMB Number: 1506-0014.

Type of Review: Extension.

Title: Report of International Transportation of Currency or Monetary Instruments.

Form: FinCEN 105.

Description: FinCEN, and the Department of Homeland Security (DHS) and the DHS Bureaus, are required under 31 U.S.C. 5316(a) to collect information regarding the mailing, shipment, or transportation of currency or monetary instruments of more than $10,000 in value into or out of the United States.

Respondents: Business or other for-profit; not for-profit institutions and individuals or households.

Estimated Total Reporting Burden: 140,000 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Michael A. Robinson,
Treasury PRA Clearance Officer.

[FR Doc. 06-5807 Filed 6-28-06; 8:45 am]

BILLING CODE 4810-02-P